DEPARTMENT OF ENERGY

Federal Energy Regulatory Commission

[Project No. 12597-002—Montana; Project No. 12598-002—Montana; Project No. 12599-002—Montana]

Lower Turnbull Drop; Upper Turnbull Drop; Mill Coulee Drops; Notice of Availability of Environmental Assessment

June 8, 2006.

In accordance with the National Environmental Policy Act of 1969 and the Federal Energy Regulatory Commission's (Commission's) regulations, 18 CFR part 380 (Order No. 486, 52 FR 47897), Office of Energy Projects staff has reviewed the application for Birch Power Company's proposed Lower Turnbull Drop and Upper Turnbull Drop projects and Wade Jacobsen's proposed Mill Coulee Drops Project and prepared an environmental assessment (EA). The proposed projects would be located on the Spring Valley and Mill Coulee Canals, near the Town of Fairfield, in Teton and Cascade counties, Montana.

This EA contains the Commission staff's analysis of the potential future environmental effects of the project, and staff has concluded that licensing the projects, with appropriate environmental protective measures, would not constitute a major Federal action that would significantly affect the quality of the human environment.

A copy of the EA is available for review at the Commission in the Public Reference Room or may be viewed on the Commission's Web site at http://www.ferc.gov using the “eLibrary” link. Enter one of the projects” docket numbers, excluding the last three digits, in the docket number field to access the document. For assistance, contact FERC Online Support at FERC OnlineSupport@ferc.gov or toll-free at 1-866-208-3676, or for TTY, 202-502-8659. You may also register online at http://www.ferc.gov/docs-filing/esubscription.asp to be notified via e-mail of new filings and issuances related to these or other pending projects.

Please file any comments (an original and 8 copies) within 30 days from the date of this letter. The comments should be addressed to Magalie R. Salas, Secretary, Federal Energy Regulatory Commission, 888 First Street, NE., Washington, DC 20426. Please affix “Lower Turnbull Drop Project No. 12597-002, Upper Turnbull Drop Project No. 12598-002, and Mill Coulee Drops Project No. 12599-002” to all comments. Comments may be filed electronically via the Internet in lieu of paper.

See 18 CFR 385.2001(a)(1)(iii) and the instructions on the Commission's Web site at http://www.ferc.gov under the “e-filing” link. The Commission strongly encourages electronic filings.

Please contact Dianne Rodman by telephone at 202-502-6077 or by e-mail at dianne.rodman@ferc.gov if you have any questions.

Magalie R. Salas,
Secretary.

[FR Doc. E6-9379 Filed 6-15-06; 8:45 am]

BILLING CODE 6717-01-P